FEDERAL COMMUNICATIONS COMMISSION

Notice of Public Information Collection(s) Being Submitted for Review to the Office of Management and Budget

March 27, 2007.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before June 4, 2007. If you anticipate that you will be submitting PRA comments, but find it difficult to do so within the period of time allowed by this notice, you should advise the FCC contact listed below as soon as possible.

ADDRESSES: Direct all PRA comments to Jasmeet K. Seehra, Office of Management and Budget, Room 10236 NEOB, Washington, DC 20503, (202) 395-3123, or via fax at 202-395-5167 or via internet at Jasmeet_K._Seehra@omb.eop.gov and Judith-B.Herman@fcc.gov, Federal Communications Commission, Room 1-B441, 445 12th Street, SW., DC 20554 or an e-mail to PRA@fcc.gov. If you would like to obtain or view a copy of this information collection after the 60 day comment period, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-0697.

Title: Revision of Parts 22 and 90 to Facilitate Future Development of Paging Systems (Second Report and Order and Further Notice of Proposed Rulemaking, Memorandum Opinion and Order, Order on Reconsideration and Third Report and Order, WT Docket 96-18.

Form No.: N/A.

Type of Review: Revision of a currently approved collection.

Respondents: Individuals or households; business or other for-profit, not-for-profit institutions, state, local or tribal government.

Number of Respondents: 450 respondents; 450 responses.

Estimated Time Per Response: 15 minutes to 1 hour (average).

Frequency of Response: On occasion reporting requirement and recordkeeping requirement.

Obligation to Respond: Required to obtain or retain benefits.

Total Annual Burden: 7,087 hours.

Total Annual Cost: $113,600.

Privacy Act Impact Assessment: Yes.

Nature and Extent of Confidentiality: This information collection contains personally identifiable information (PII). The FCC has a system of records notice (SORN), FCC/WTB-1, “Wireless Services Licensing Records,” to cover the collection, maintenance, use(s), and destruction of this PII, which respondents may provide to the FCC as part of the information collection requirement(s). This SORN was published in the Federal Register on April 5, 2006 (71 FR 17234, 17269).

Needs and Uses: The Commission will submit this information collection to the OMB as a revision after this 60 day comment period to obtain the full three-year clearance from them. This information collection will be used by the Commission for the following purposes: (1) To facilitate the successful coexistence of incumbent and geographic area paging licensees; (2) to lessen the administrative burden on licensees and to simplify the paging licensing database; (3) to determine the partitioned service areas and the geographic area licensee's remaining service area of parties to a partitioning agreement; (4) to determine whether a geographic area licensee and parties to partitioning and disaggregation agreements have met the applicable coverage requirement for their respective service areas; (5) to determine whether an applicant is eligible to receive bidding credits as a small business; (6) to determine the real parties in interest of any joint bidding agreements; and (8) to determine the appropriate unjust enrichment compensation to be remitted to the government.

OMB Control Number: 3060-0865.

Title: Wireless Telecommunications Bureau Universal Licensing System Recordkeeping and Third Party Disclosure Requirements.

Form No.: N/A.

Type of Review: Extension of a currently approved collection.

Respondents: Individuals or households, business or other for-profit, not-for-profit institutions, state, local or tribal government.

Number of Respondents: 70,645 respondents; 70,645 responses.

Estimated Time Per Response: 10 minutes to 1 hour (average).

Frequency of Response: On occasion reporting requirement, third party disclosure requirement, and recordkeeping requirement.

Obligation to Respond: Required to obtain or retain benefits.

Total Annual Burden: 63,457 hours.

Total Annual Cost: N/A.

Privacy Act Impact Assessment: Yes.

Nature and Extent of Confidentiality: This information collection contains personally identifiable information (PII). The FCC has a system of records notice (SORN), FCC/WTB-1, “Wireless Services Licensing Records,” to cover the collection, maintenance, use(s), and destruction of this PII, which respondents may provide to the FCC as part of the information collection requirement(s). This SORN was published in the Federal Register on April 5, 2006 (71 FR 17234, 17269).

Needs and Uses: The Commission will submit this information collection to the OMB as an extension (no change in reporting requirements) after this 60 day comment period to obtain the full three-year clearance from them.

The Commission has adjusted the number of respondents because they increased; therefore, the burden hours have also increased.

The purpose of this information collection is to continually streamline and simplify processes for wireless applicants and licensees, who previously used a myriad of forms for various wireless services and types of requests, in order to provide the Commission, information that has been collected in separate databases, each for a different group of services. Such processes have resulted in unreliable reporting, duplicate filings for the same licensees/applicants, and higher cost burdens to licensees/applicants. By streamlining the Universal Licensing System (ULS), the Commission eliminates the filing of duplicative applications for wireless carriers; increases the accuracy and reliability of licensing information; and enables all wireless applicants and licensees to file all licensing-related applications and other filings electronically, thus increasing the speed and efficiency of the application process. The ULS also benefits wireless applicants/licensees by reducing the cost of preparing applications, and speeds up the licensing process in that the Commission can introduce new entrants more quickly into this already competitive industry. Finally, ULS enhances the availability of licensing information to the public which has access to all publicly available wireless licensing information on-line, including maps depicting a licensee's geographic service area.

Federal Communications Commission.
Marlene H. Dortch,
Secretary.

[FR Doc. E7-6395 Filed 4-4-07; 8:45 am]

BILLING CODE 6712-01-P